DEPARTMENT OF LABOR

Employment and Training Administration

[TA-W-50,693]

Wards Cove Packing Company, Seattle, WA; Notice of Termination of Investigation

Pursuant to section 221 of the Trade Act of 1974, as amended, an investigation was initiated on January 27, 2003, in response to a worker petition filed by a company official on behalf of workers at Wards Cove Packing Company, Seattle, Washington.

The petitioning group of workers is covered by an earlier petition filed on January 13, 2003 (TA-W-50,542), that is the subject of an ongoing investigation for which a determination has not yet been issued. Further investigation in this case would duplicate efforts and serve no purpose; therefore the investigation under this petition has been terminated.

Signed in Washington, DC, this 25th day of February, 2003.
Linda G. Poole,
Certifying Officer, Division of Trade Adjustment Assistance.

[FR Doc. 03-6566 Filed 3-18-03; 8:45 am]

BILLING CODE 4510-30-P